DEPARTMENT OF EDUCATION

Office of Postsecondary Education; Solicitation of Third-Party Comments Concerning the Performance of Accrediting Agencies

AGENCY: Accreditation Group, Office of Postsecondary Education, U.S. Department of Education.

ACTION: Call for written third-party comments.

SUMMARY: This notice provides information to members of the public on submitting written comments for accrediting agencies currently undergoing review for purposes of recognition by the U.S. Secretary of Education.

FOR FURTHER INFORMATION CONTACT: Herman Bounds, Director, Accreditation Group, Office of Postsecondary Education, U.S. Department of Education, 400 Maryland Avenue SW, Room 270-01, Washington, DC 20202, telephone: (202) 453-7615, or email: herman.bounds@ed.gov.

SUPPLEMENTARY INFORMATION: This solicitation of third-party comments concerning the performance of accrediting agencies under review by the Secretary is required by section 496(n)(1)(A) of the Higher Education Act (HEA) of 1965, as amended. These accrediting agencies will be on the agenda for the Spring 2018 National Advisory Committee on Institutional Quality and Integrity meeting. The meeting date has not been determined, but will be announced in a separate Federal Register notice.

Agencies Under Review and Evaluation: Below is a list of agencies currently undergoing review and evaluation by the Accreditation Group, including their current and requested scopes of recognition:

Application for Initial Recognition

1. Accrediting Council for Independent Colleges and Schools. Requested Scope of Recognition: The accreditation of private postsecondary institutions offering certificates or diplomas, and postsecondary institutions offering associate, bachelor's, or master's degrees in programs designed to educate students for professional, technical, or occupational careers, including those that offer those programs via distance education.

Applications for Renewal of Recognition

1. Association of Advanced Rabbinical and Talmudic Schools, Accreditation Commission. Scope of Recognition: The accreditation and preaccreditation (“Correspondent” and “Candidate”) within the United States of advanced rabbinical and Talmudic schools.

2. Academy of Nutrition and Dietetics, Accreditation Council for Education in Nutrition and Dietetics. Scope of Recognition: The accreditation and pre-accreditation, within the United States, of Didactic and Coordinated Programs in Dietetics at both the undergraduate and graduate level, post-baccalaureate Dietetic Internships, and Dietetic Technician Programs at the associate degree level, and for its accreditation of such programs offered via distance education.

3. Accreditation Council on Optometric Education. Scope of Recognition: The accreditation in the United States of professional optometric degree programs, optometric technician (associate degree) programs, and optometric residency programs, and for the pre-accreditation category of Preliminary Approval for professional optometric degree programs.

4. Council on Accreditation of Nurse Anesthesia Educational Programs. Scope of Recognition: The accreditation of institutions and programs of nurse anesthesia at the post master's certificate, master's, or doctoral degree levels in the United States, and its territories, including programs offering distance education.

5. Liaison Committee on Medical Education. Scope of Recognition: The accreditation of medical education programs within the United States leading to the M.D. degree.

6. Northwest Commission on Colleges and Universities. Scope of Recognition: The accreditation and preaccreditation (“Candidacy Status”) of postsecondary degree-granting educational institutions in Alaska, Idaho, Montana, Nevada, Oregon, Utah, and Washington, and the accreditation of programs offered via distance education within these institutions.

7. National Association of Schools of Art and Design. Scope of Recognition: For the accreditation throughout the United States of freestanding institutions and units offering art/design and art/design-related programs (both degree- and non-degree-granting), including those offered via distance education.

Compliance Report

1. American Psychological Association. Compliance report includes the following: (1) Findings identified in the September 22, 2016 letter from the senior Department official following the June 23, 2016 NACIQI meeting available at: https://opeweb.ed.gov/aslweb/finalstaffreports.cfm, (2) Review under 34 CFR 602.19(a), and § 602.20(b).

Scope of Recognition: The accreditation in the United States of doctoral programs in clinical, counseling, school and combined professional-scientific psychology; doctoral internship programs in health service psychology; and postdoctoral residency programs in health service psychology. The preaccreditation in the United States of doctoral internship programs in health service psychology; and postdoctoral residency programs in health service psychology.

2. American Bar Association Compliance report includes the following: (1) Findings identified in the October 28, 2016 letter from the senior Department official following the June 23, 2016 NACIQI meeting available at: https://opeweb.ed.gov/aslweb/finalstaffreports.cfm, (2) Review under 34 CFR 602.15(a)(1), § 602.15(a)(2), § 602.15(a)(3), § 602.16(a)(1)(viii), and § 602.17(b).

Scope of Recognition: The accreditation throughout the United States of programs in legal education that lead to the first professional degree in law as well as freestanding law schools offering such programs. This recognition also extends to the Accreditation Committee of the Section of Legal Education (Accreditation Committee) for decisions involving continued accreditation (referred to by the agency as “approval”) of law schools.

3. American Osteopathic Association, Commission on Osteopathic College Accreditation Compliance report includes the following: (1) Findings identified in the October 28, 2016 letter from the senior Department official following the June 23, 2016 NACIQI meeting available at: https://opeweb.ed.gov/aslweb/finalstaffreports.cfm, (2) Review under 34 CFR 602.11, § 602.13, § 602.15(a)(3), § 602.16(a)(1)(i), § 602.16(a)(1)(ii), § 602.16(a)(1)(iii), § 602.16(a)(1)(iv) § 602.16(a)(1)(v), § 602.16(a)(1)(vi), § 602.16(a)(1)(vii) § 602.16(a)(1)(viii) § 602.16(a)(1)(ix) § 602.16(a)(1)(x), § 602.16(a)(2), § 602.17(a), § 602.19(b), § 602.20(a), and § 602.26(b).

4. Transnational Association Of Christian Colleges and Schools Compliance report includes the following: (1) Findings identified in the October 28, 2016 letter from the senior Department official following the June 23, 2016 NACIQI meeting available at: https://opeweb.ed.gov/aslweb/finalstaffreports.cfm, (2) Review under 34 CFR 602.15(a)(2), and § 602.19(b).

Scope of Recognition: The accreditation and preaccreditation (“Candidate” Status) of Christian postsecondary institutions in the United States that offer certificates, diplomas, and associate, baccalaureate, and graduate degrees, including institutions that offer distance education.

Application for an Expansion of Scope

Association of Advanced Rabbinical and Talmudic Schools, Accreditation Commission. Scope of Recognition: The accreditation and preaccreditation (“Correspondent” and “Candidate”) within the United States of advanced rabbinical and Talmudic schools. Requested Scope: The accreditation of advanced Rabbinical and Talmudic institutions in the United States which grant postsecondary degrees such as Associate, Baccalaureate, Masters, Doctorate, First Rabbinic and First Talmudic degrees.

Renewal—State Agency for the Approval of Public Postsecondary Vocational Education

Puerto Rico State Agency for the Approval of Public Postsecondary Vocational, Technical Institutions and Programs

Submission of Written Comments Regarding a Specific Accrediting Agency or State Approval Agency Under Review

Written comments about the recognition of a specific accrediting or State agency must be received by February 16, 2018, in the ThirdPartyComments@ed.gov mailbox and include the subject line “Written Comments: (agency name).” The email must include the name(s), title, organization/affiliation, mailing address, email address, and telephone number of the person(s) making the comment. Comments should be submitted as a Microsoft Word document or in a medium compatible with Microsoft Word (not a PDF file) that is attached to an electronic mail message (email) or provided in the body of an email message. Comments about an agency's recognition after review of a compliance report must relate to issues identified in the compliance report and the criteria for recognition cited in the senior Department official's letter that requested the report, or in the Secretary's appeal decision, if any. Comments about the renewal of an agency's recognition based on a review of the agency's petition must relate to its compliance with the Criteria for the Recognition of Accrediting Agencies, or the Criteria and Procedures for Recognition of State Agencies for Approval of Nurse Education as appropriate, which are available at http://www.ed.gov/admins/finaid/accred/index.html.

Only written material submitted by the deadline to the email address listed in this notice, and in accordance with these instructions, become part of the official record concerning agencies scheduled for review and are considered by the Department and NACIQI in their deliberations.

A later Federal Register Notice will describe how to register to provide oral comments at the meeting about the recognition of a specific accrediting agency or State approval agency.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Lynn B. Mahaffie,
Deputy Assistant Secretary for Planning, Policy, and Innovation.

[FR Doc. 2018-01220 Filed 1-23-18; 8:45 am]

BILLING CODE 4000-01-P